DEPARTMENT OF VETERANS AFFAIRS

Privacy Act of 1974; System of Records

AGENCY: Department of Veterans Affairs (VA), Debt Management Center.

ACTION: Notice of modified system of records.

SUMMARY: The Privacy Act of 1974 (5 U.S.C. 522a (e) (4)) requires that all agencies publish in the Federal Register a notice of the existence and character of their systems of records. Notice is hereby given that the Department of Veterans Affairs (VA) is modifying a system of records entitled “Centralized Accounts Receivable System/Centralized Accounts Receivable On-Line System (CARS/CAROLS) (88VA244)”. This system was previously called “Accounts Receivable Records VA” (88VA244). This system had also been previously numbered “88VA20A6”.

DATES: Comments on this modified system of records must be received no later than September 12, 2018. If no public comment is received during the period allowed for comment, or unless otherwise published in the Federal Register by VA, the modified system will become effective a minimum of 30 days after publication in the Federal Register. If VA receives public comments, VA shall review the comments to determine whether any changes to the notice are necessary.

ADDRESSES: Written comments may be submitted through www.Regulations.gov; by mail or hand-delivery to Director, Regulation Policy and Management (00REG), Department of Veterans Affairs, 810 Vermont Ave. NW, Room 1064, Washington, DC 20420; or by fax to (202) 273-9026 (not a toll-free number). Comments should indicate that they are submitted in response to “Centralized Accounts Receivable System/Centralized Accounts Receivable On-Line System (CARS/CAROLS)”. Copies of comments received will be available for public inspection in the Office of Regulation Policy and Management, Room 1063B, between the hours of 8:00 a.m. and 4:30 p.m., Monday through Friday (except holidays). Please call (202) 461-4902 for an appointment. (This is not a toll-free number.) In addition, comments may be viewed online at www.Regulations.gov.

FOR FURTHER INFORMATION CONTACT: Chief, Support Services Division, Debt Management Center (189/00), U.S. Department of Veterans Affairs, Bishop Henry Whipple Federal Building, 1 Federal Drive, Ft. Snelling, Minnesota 55111. The internet email address for Debt Management Center is: SUPPORTSER.VAVBASPL@va.gov.

SUPPLEMENTARY INFORMATION: Notification of this system of records was originally published under system number 88VA20A6 on November 3, 1994, at 59 FR 55155. The System Name has been changed to clarify the identity of the system. The revisions to the system of records were done to reflect current terminology and new citations for reference material. In some cases, routine uses have been more fully described and clarified to promote transparency. Routine uses 2 & 3 have been added to support an effective response in the event of a data breach. To broaden the application of the system of records to a department-wide basis and to reflect consolidation of collection responsibilities for additional types of debts under the administration of VA's Debt Management Center (DMC) in Ft. Snelling, Minnesota, an altered system of records was published November 26, 1996 at 61 FR 60148. The Debt Collection Improvement Act of 1996 (DCIA), section 31001 of Pub. L. 104-134, was enacted April 26, 1996 and provides for a Government-wide system of debt collection managed by the Department of the Treasury. The debt collection program adheres to VA security and reporting requirements under title 38, Code of Federal Regulations and other Federal regulations, as well as the Privacy Act of 1974, as amended (5 U.S.C. 552a), and the appropriate provisions of the Internal Revenue Code, title 26, United States Code.

Signing Authority

The Senior Agency Official for Privacy, or designee, approved this document and authorized the undersigned to sign and submit the document to the Office of the Federal Register for publication electronically as an official document of the Department of Veterans Affairs. John Oswalt, Executive Director for Privacy, Quality, Privacy, and Risk, Department of Veterans Affairs approved this document on June 1, 2018 for publication.

Dated: August 7, 2018.
Kathleen M. Manwell,
Program Analyst, VA Privacy Service, Office of Privacy, Information and Identity Protection, Quality, Privacy and Risk, Office of Information and Technology, Department of Veterans Affairs.

SYSTEM NAME AND NUMBER:

Centralized Accounts Receivable System/Centralized Accounts Receivable On-Line System. (CARS/CAROLS, combined system referred to as CAO)—88VA244

SECURITY CLASSIFICATION:

Unclassified.

SYSTEM LOCATION:

Automated indebtedness records for first-party medical billing, pay administration, compensation, pension, educational assistance, survivors' and dependents' educational assistance and most home loan debts are maintained at VA's Financial Services Center (FSC) and Automation/Systems Development Center (AA/SDC) in Austin, Texas. Automated records of debts referred to the Department of Veterans Affairs for Government-wide cross-servicing authorized under 31 U.S.C. 3711(g)(4) are maintained at VA's AA/SDC in Austin, Texas. Extracts of benefit and home loan debt automated records are maintained in the Veterans Service Network (VETSNET) for accounting and adjudication purposes. VETSNET is housed at the Austin Information Technology Center (AITC), located in Austin, Texas. The Benefits Delivery Network (BDN) is administered by the Benefit Delivery Center (BDC) in Hines, Illinois. First-party medical billing information is extracted from records maintained at VA medical facilities and in automated media as more fully described in the Privacy Act system of records, 24VA19, “Patient Medical Records—VA” as published at 40 FR 38095 (Aug. 26, 1975), and amended as follows: 40 FR 52125 (Nov. 7, 1975); 41 FR 2881 (Jan. 20, 1976); 41 FR 11631 (Mar. 19, 1976); 42 FR 30557 (Jun. 15, 1977); 44 FR 31058 (May 30, 1979); 45 FR 77220 (Nov. 21, 1980); 46 FR 2766 (Jan. 12, 1981); 47 FR 28522 (Jun. 30, 1982); 47 FR 51841 (Nov. 17, 1982); 50 FR 11610 (Mar. 22, 1985); 51 FR 25968 (Jul. 17, 1986); 51 FR 44406 (Dec. 9, 1986); 52 FR 381 (Jan. 5, 1987); 53 FR 49818 (Dec. 9, 1988); 55 FR 5112 (Feb. 13, 1990); 55 FR 37604 (Sept. 12, 1990); 55 FR 42534 (Oct. 19, 1990); 56 FR 1054 (Jan. 10, 1991); 57 FR 28003 (Jun. 23, 1992); 57 FR 4519 (Oct. 1, 1992); 58 FR 29853 (May 24, 1993); 58 FR 40852 (Jul. 30, 1993); and, 58 FR 57674 (Oct. 26, 1993), 62 FR 35545, July 1, 1997; and 67 FR 72721, December 6, 2002. Automated and paper indebtedness records for the Civilian Health and Medical Program of the Department of Veterans Affairs (CHAMPVA) are maintained at the Health Administration Center (HAC) in Denver, Colorado and are more fully described in the Privacy Act system of records, 54VA17 “Health Administration Center Civilian Health and Medical program Records-VA” as published at 40 FR 38095 (Aug. 26, 1975) and amended at 53 FR 23845 (Jun. 24, 1998), 53 FR 25238 (Jul. 5, 1988) and 56 FR 26186 (Jun. 6, 1992). Pay administration indebtedness records are extracted from other automated and paper records maintained at all VA facilities and the Austin Finance Center and are more fully described in the Privacy Act system of records, 27VA047, “Personnel and Accounting Integrated Data System” as published at 40 FR 38095 (Aug. 26, 1975), and amended as follows: 48 FR 16372 (April 15, 1983); 50 FR 23100 (May 30, 1985); 51 FR 6858 (Feb. 26, 1986); 51 FR 25968 (Jul. 17, 1986); 55 FR 42534 (Oct. 19, 1990); 56 FR 23952 (May 24, 1991); 58 FR 39088 (Jul. 21, 1993); 58 40852 (Jul. 30, 1993); and, 60 FR 35448 (Jul. 7, 1995); 62 FR 41483 (Aug. 1, 1997), 62 FR 68362 (Dec. 31, 1997); and 77 FR 39346 (Jul. 2, 2012). Certain paper records, microfilm and microfiche are maintained at the VA Debt Management Center (DMC), Ft. Snelling, Minnesota. Education loan, miscellaneous home loan and spina bifida monthly allowance automated, paper, microfilm and microfiche records are maintained at DMC. Automated and paper indebtedness records related to the All-Volunteer Force Educational Assistance Program are also maintained at DMC. Paper records related to benefit and home loan accounts receivable may be maintained in individual file folders located at the VA regional office having jurisdiction over the domicile of the claimant or the geographic area in which a property securing a VA guaranteed, insured or direct loan is located. Similarly, paper and automated records related to first-party medical billing and CHAMPVA are also maintained in individual patient medical records at VA health care facilities and HAC. Generally, and with the exception of claims against third-party insurers and certain first-party medical debts, automated records and papers maintained at regional offices, health care facilities and HAC are not used directly in the debt collection process unless they are forwarded by conventional mail, electronic mail or facsimile to DMC. Records provided to the Department of Housing and Urban Development (HUD) for inclusion in the Credit Alert Verification System (CAIVRS) are located at the HUD Data Processing Center in Lanham, Maryland. Records referred to the Department of the Treasury for inclusion in the Treasury Offset Program (TOP) are located at the Financial Management Service Debt Collection Operations System in Hyattsville, Maryland.

SYSTEM MANAGER(S):

Joseph Schmitt, Executive Director, Debt Management Center (189/00), U.S. Department of Veterans Affairs, Bishop Henry Whipple Federal Building, 1 Federal Drive, Ft. Snelling, MN 55111. Email: SUPPORTSER.VAVBASPL@va.gov.

AUTHORITY FOR MAINTENANCE OF THE SYSTEM:

Government records are maintained and managed under the authority set forth in 31 U.S.C. 3101 and 31 U.S.C. 3102. The purpose of the system is consistent with the financial management provisions of title 31, United States Code, chapter 37, the pay administration provisions of title 5, United States Code, chapter 55, and special provisions relating to VA benefits in title 38, United States Code, chapter 53.

PURPOSE(S) OF THE SYSTEM:

The purpose of this system is to maintain records of individuals, organizations and other entities: (1) Indebted to the United States as a result of their participation in benefit and health care programs administered by VA; (2) indebted as a result of erroneous pay administration; (3) indebted under any other program administered by any agency of the United States Government and whose indebtedness record has been referred to VA for Government-wide cross-servicing under 31 U.S.C. 3711(g)(4); and (4) indebted under any Federal, State or local government program and whose debt was referred to VA for collection under any valid interagency agreement. Information in this system of records is used for the administrative management and collection of debts owed the United States and any State or local government and for which records are maintained in accordance with the preceding sentence.

CATEGORIES OF INDIVIDUALS COVERED BY THE SYSTEM:

Persons indebted to the United States Government as a result of their participation in benefit programs (including health care programs) administered by VA under title 38, United States Code, chapters 11, 13, 15, 17, 18, 21, 30, 31, 32, 33, 34, 35, 36 and 37, including persons indebted to the United States Government by virtue of their ownership, contractual obligation or rental of property owned by the Government or encumbered by a VA-guaranteed, insured, direct or vendee loan. The individuals covered are persons indebted to the United States Government as a result of their participation in a benefit program administered by VA, but who did not meet the requirements for receipt of such benefits or services. Persons indebted to the United States, a State or local government whose debts are referred to the Department of Veterans Affairs for Government-wide cross-servicing under 31 U.S.C. 3711(g)(4) or any valid interagency agreement. Persons indebted to the United States as the result of erroneous payment of pay or allowances or as the result of erroneous payment of travel, transportation or relocation expenses and allowances (previously and hereinafter referred to as “pay administration”) under the provisions of title 5, United States Code, part III, subpart D.

CATEGORIES OF RECORDS IN THE SYSTEM:

Information varies depending on the source of the debt. Identifying information including VA claim number, Social Security number, Tax Identification Number (TIN), name and address and, when appropriate, loan reference number, obtained from, among other sources, indebtedness records of Federal agencies other than VA and the following Privacy Act systems of records: “Debt Collection Operations System—Treasury/Financial Management Service” (Treasury/FMS .014); “Compensation, Pension, Education and Vocational Rehabilitation Records—VA” (58VA21/22/28); “Loan Guaranty Home, Condominium and Manufactured Home Loan Applicant Records, Specially Adapted Housing Applicant Records, and Vendee Loan Applicant Records—VA” (55VA26); “Patient Medical Records—VA” (24VA136); and, “Health Administration Center Civilian Health and Medical Program Records—VA” (54VA17). Initial indebtedness amount, amounts claimed for reimbursement type of benefit from which the debt arose, identifying number of the VA regional office with jurisdiction over the underlying benefit claim or property subject to default or foreclosure, station number of the VA health care facility rendering services, name of co-obligor and property address of the defaulted home loan from 58VA21/22/28, 55VA26, 24VA136 and 54VA17 History of debt collection activity on the person, organization or entity includes correspondence, telephone calls, referrals to other Federal, State or local agencies, VA regional counsel, private collection and credit reporting agencies. Payments received, refunds made, interest amount, current balance of debt and indication of status of current VA benefit payments. Federal employment status obtained by computer matching with Government agencies and the United States Postal Service. No personal medical information concerning the nature of disease, injury or disability is transmitted to or maintained in this system of records.

RECORD SOURCE CATEGORIES:

The records in this system are derived from five other systems of records as set forth in “Categories Of Records In The System,” above, persons indebted to the United States by virtue of their participation in programs administered by VA or other Government agencies, dependents of those persons, fiduciaries for those persons (VA or court appointed), other Federal agencies, State and local agencies, private collection agencies, consumer reporting agencies, State, local and county courts and clerks, other third parties and other VA records.

ROUTINE USES OF RECORDS MAINTAINED IN THE SYSTEM, INCLUDING CATEGORIES OF USERS AND PURPOSES OF SUCH USES:

For purposes of the following routine uses:

(a) The term, “veteran”, includes present, former or retired members of the United States Armed Forces, the reserve forces or National Guard;

(b) The term, “debtor”, means any person falling within the categories of individuals covered by this system, as set forth above. A “debtor” may be a veteran, as defined above, a veteran's dependent entitled to VA benefits (including health care) in his or her own right or a person who is neither a veteran nor a veteran's dependent for benefit purposes; and,

(c) The terms, “benefit”, “benefit program” and “VA program” include any gratuitous benefit, home loan (including miscellaneous home loan) or health care (including CHAMPVA) program administered by the Secretary of Veterans Affairs.

1. Congress

VA may disclose information from the record of an individual in response to an inquiry from the congressional office made at the request of that individual.

VA must be able to provide information about individuals to adequately respond to inquiries from Members of Congress at the request of constituents who have sought their assistance.

2. Data breach response and remedial efforts

To appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

This routine use permits disclosures by the Department to respond to a suspected or confirmed data breach, including the conduct of any risk analysis or provision of credit protection services as provided in 38 U.S.C. 5724.

A. Effective Response. A federal agency's ability to respond quickly and effectively in the event of a breach of federal data is critical to its efforts to prevent or minimize any consequent harm. An effective response necessitates disclosure of information regarding the breach to those individuals affected by it, as well as to persons and entities in a position to cooperate, either by assisting in notification to affected individuals or playing a role in preventing or minimizing harms from the breach.

B. Disclosure of Information. Often, the information to be disclosed to such persons and entities is maintained by federal agencies and is subject to the Privacy Act (5 U.S.C. 552a). The Privacy Act prohibits the disclosure of any record in a system of records by any means of communication to any person or agency absent the written consent of the subject individual, unless the disclosure falls within one of twelve statutory exceptions. In order to ensure an agency is in the best position to respond in a timely and effective manner, in accordance with 5 U.S.C. 552a(b)(3) of the Privacy Act, agencies should publish a routine use for appropriate systems specifically applying to the disclosure of information in connection with response and remedial efforts in the event of a data breach.

3. Data breach response and remedial efforts with another Federal agency VA may, on its own initiative, disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement

VA may, on its own initiative, disclose information in this system, except the names and home addresses of veterans and their dependents, which is relevant to a suspected or reasonably imminent violation of law, whether civil, criminal or regulatory in nature and whether arising by general or program statute or by regulation, rule or order issued pursuant thereto, to a Federal, state, local, tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

VA must be able to provide on its own initiative information that pertains to a violation of laws to law enforcement authorities in order for them to investigate and enforce those laws. Under 38 U.S.C. 5701(a) and (f), VA may only disclose the names and addresses of veterans and their dependents to Federal entities with law enforcement responsibilities. This is distinct from the authority to disclose records in response to a qualifying request from a law enforcement entity, as authorized by Privacy Act subsection 5 U.S.C. 552a(b)(7).

5. Litigation

VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

To determine whether to disclose records under this routine use, VA will comply with the guidance promulgated by the Office of Management and Budget in a May 24, 1985, memorandum entitled “Privacy Act Guidance—Update,” currently posted at http://www.whitehouse.gov/omb/inforeg/guidance1985.pdf.

VA must be able to provide information to DoJ in litigation where the United States or any of its components is involved or has an interest. A determination would be made in each instance that under the circumstances involved; the purpose is compatible with the purpose for which VA collected the information. This routine use is distinct from the authority to disclose records in response to a court order under subsection (b)(11) of the Privacy Act, 5 U.S.C. 552(b)(11), or any other provision of subsection (b), in accordance with the court's analysis in Doe v. DiGenova, 779 F.2d 74, 78-84 (D.C. Cir. 1985) and Doe v. Stephens, 851 F.2d 1457, 1465-67 (D.C. Cir. 1988).

6. Contractors

VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement.

This routine use includes disclosures by an individual or entity performing services for VA to any secondary entity or individual to perform an activity that is necessary for individuals, organizations, private or public agencies, or other entities or individuals with whom VA has a contract or agreement to provide the service to VA.

This routine use, which also applies to agreements that do not qualify as contracts defined by Federal procurement laws and regulations, is consistent with OMB guidance in OMB Circular A-130, App. I, paragraph 5a(1)(b) that agencies promulgate routine uses to address disclosure of Privacy Act-protected information to contractors in order to perform the services contracts for the agency.

7. Equal Employment Opportunity Commission (EEOC)

VA may disclose information from this system to the EEOC when requested in connection with investigations of alleged or possible discriminatory practices, examination of Federal affirmative employment programs, or other functions of the Commission as authorized by law or regulation.

VA must be able to provide information to EEOC to assist it in fulfilling its duties to protect employees' rights, as required by statute and regulation.

8. Federal Labor Relations Authority (FLRA)

VA may disclose information from this system to the FLRA, including its General Counsel, information related to the establishment of jurisdiction, investigation, and resolution of allegations of unfair labor practices, or in connection with the resolution of exceptions to arbitration awards when a question of material fact is raised; for it to address matters properly before the Federal Service Impasses Panel, investigate representation petitions, and conduct or supervise representation elections.

VA must be able to provide information to FLRA to comply with the statutory mandate under which it operates.

9. Merit Systems Protection Board (MSPB)

VA may disclose information from this system to the MSPB, or the Office of the Special Counsel, when requested in connection with appeals, special studies of the civil service and other merit systems, review of rules and regulations, investigation of alleged or possible prohibited personnel practices, and such other functions promulgated in 5 U.S.C. 1205 and 1206, or as authorized by law.

VA must be able to provide information to MSPB to assist it in fulfilling its duties as required by statute and regulation.

10. National Archives and Records Administration (NARA) and General Services Administration (GSA):

VA may disclose information from this system to NARA and GSA in records management inspections conducted under title 44, U.S.C.

NARA is responsible for archiving old records which are no longer actively used but may be appropriate for preservation, and for the physical maintenance of the Federal government's records. VA must be able to provide the records to NARA in order to determine the proper disposition of such records.

11. Federal Agencies, for Computer Matches

VA may disclose identifying information, including social security number, concerning veterans, spouses of veterans, and the beneficiaries of veterans to other federal agencies for the purpose of conducting computer matches to obtain information to determine or verify eligibility of veterans receiving VA benefits under Title 38, U.S.C.

Office of Personal Management (OPM) may disclose limited individual identification information to another Federal agency for the purpose of matching and acquiring information held by that agency for OPM to use for the purposes stated for this system of records. OPM may act as an intermediary when a Veteran makes statements to OPM that are inconsistent with information furnished by the VA.

A complete list of specific details of Computer Matches is listed below:

A. Any information in this system may be disclosed, by computer matching or otherwise, in connection with any proceeding for the collection of an amount owed the United States when, in the judgment of the Secretary, or official generally delegated such authority under standard agency delegation of authority rules (38 CFR 2.6), such disclosure is deemed necessary and proper in accordance with 38 U.S.C. 5701(b)(6) for debts. resulting from participation in VA benefit programs or pay administration, with 31 U.S.C. 3711(g)(5) for other debts referred to VA in its capacity as a Government-wide cross-servicing facility or with a valid interagency agreement for collection services independent of the cross-servicing provisions of section 3711(g)(4) and (g)(5).

B. Identifying information, including the debtor's name, Social Security number and VA claim number, along with the amount of indebtedness, may be disclosed to any Federal agency, including the U.S. Postal Service, in the course of conducting computer matching to identify and locate delinquent debtors employed by or receiving retirement benefits from those agencies. Such debtors may be subject to offset of their pay or retirement benefits under the provisions of 5 U.S.C. 5514.

C. Any information in this system, including the nature and amount of a financial obligation as well as the history of debt collection activity against a debtor, may be disclosed to the Federal agency administering salary or retirement benefits to the debtor to assist that agency in initiating offset of salary or retirement benefits to collect delinquent debts owed the United States.

D. The name(s) and address(es) of a debtor(s) may be disclosed to another Federal agency or to a contractor of that agency, at the written request of the head of that agency or designee of the head of that agency for the purpose of conducting Government research or oversight necessary to accomplish a statutory purpose of that agency.

E. Debtors' social security numbers, VA claim numbers, loan account numbers and other information as is reasonably necessary to identify individual indebtedness accounts may be disclosed to the Department of Housing and Urban Development for inclusion in the Credit Alert Verification System (CAIVRS). Information in CAIVRS may be disclosed to all participating agencies and lenders who participate in the agencies' programs to enable them to verify information provided by new loan applicants and evaluate the creditworthiness of applicants. Records are disclosed to participating agencies and private-sector lenders by an ongoing computer matching program.

F. Name, Social Security numbers and any other information reasonably necessary to ensure accurate identification may be disclosed to the Department of the Treasury, Internal Revenue Service, to obtain the mailing address of taxpayers who are debtors under this system of records. Disclosure is made by computer matching and pursuant to 26 U.S.C. 6103(m)(2).

G. Any information in a record under this system of records may be disclosed to the United States Government Accountability Office (GAO) to enable GAO to pursue collection activities authorized to that office or any other activities within their statutory authority.

H. Any information in this system concerning a debt over 180 days delinquent may be disclosed, by computer matching or otherwise, to the Secretary of the Treasury or to any designated Government disbursing official for purposes of conducting administrative offset of any eligible Federal payments under the authority set forth in 31 U.S.C. 3716. Payments subject to offset include those payments disbursed by the Department of the Treasury, the Department of Defense, the United States Postal Service, any Government corporation or any disbursing official of the United States designated by the Secretary of the Treasury. Subject to certain exemptions, Social Security, Black Lung, Railroad Retirement benefits and tax refunds may be included in those Federal payments eligible for administrative offset.

I. Any information in this system of records concerning a debt over 180 days delinquent may be disclosed, by computer matching or otherwise, to the Secretary of the Treasury for appropriate collection or termination action, including the transfer of the indebtedness for collection or termination, in accordance with 31 U.S.C. 3711(g)(4), to a debt collection center designated by the Secretary of the Treasury, to a private collection agency or to the Department of Justice. The Secretary of the Treasury, through the Department of the Treasury, a designated debt collection center, a private collection agency or the Department of Justice, may take any appropriate action on a debt in accordance with the existing laws under which the debt arose.

12. Federal Agencies, for Litigation

VA may, on its own initiative, disclose information to another federal agency, court, or party in litigation before a court or other administrative proceeding conducted by an agency, if VA is a party to the proceeding and needs to disclose the information to protect its interests.

13. Federal, State, Local Agencies, Hiring, Retention, Contract, Security Clearance, Grant, or Permit

VA may disclose information in this system, except the names and home addresses of veterans and their dependents, to a Federal, State, or local agency maintaining civil or criminal violation records, or other pertinent information such as prior employment history, prior Federal employment background investigations, and/or personal or educational background in order for the VA to obtain information relevant to the hiring, transfer or retention of an employee, the letting of a contract, the granting of a security clearance, or the issuance of a grant or other benefit. The names and home addresses of veterans and their dependents may be disclosed to a Federal agency in order to respond to the VA inquiry.

14. Federal Agencies, for Employment

VA may disclose information from this system of records to a federal agency or the District of Columbia government, in response to its request, in connection with the hiring or retention of an employee and the issuance of a security clearance as required by law, the reporting of an investigation of an employee, the issuance of a license, grant, or other benefit by the requesting agency, to the extent that the information is relevant and necessary to the requesting agency's decision.

15. State or Local Agency, for Hiring

Any information in this system may be disclosed to a State or local agency, upon its official request, to the extent that it is relevant and necessary to that agency's decision on: The hiring, transfer or retention of an employee, the issuance of a security clearance, the letting of a contract, or the issuance or continuance of a license, grant or other benefit by the agency; provided, that if the information pertains to a veteran, the name and address of the veteran will not be disclosed unless the name and address is provided first by the requesting State or local agency.

16. Consumer Reporting Agencies

VA may disclose the name and address of a veteran or beneficiary, and other information as is reasonably necessary to identify such individual or concerning that individual's indebtedness to the United States by virtue of the person's participation in a benefits program administered by the Department, to a consumer reporting agency for the purpose of locating the individual, obtaining a consumer report to determine the ability of the individual to repay an indebtedness to the United States, or assisting in the collection of such indebtedness, provided that the provisions of 38 U.S.C. 57019(g)(2) and (4) have been met. The purpose of this information disclosure to a consumer-reporting agency is to assist VA in locating an individual, obtaining a consumer report to determine his or her ability to repay indebtedness, and to collect indebtedness.

17. DOJ, for FTCA claims

Relevant information may be disclosed to the Department of Justice and United States Attorneys in defense or prosecution of litigation involving the United States, and to federal agencies upon their request in connection with review of administrative tort claims filed under the Federal Tort Claims Act, 28 U.S.C. 2672.

18. Treasury, IRS

VA may disclose the name of a veteran or beneficiary, other information as is reasonably necessary to identify such individual, and any other information concerning the individual's indebtedness by virtue of a person's participation in a benefits program administered by VA, may be disclosed to the Department of the Treasury, Internal Revenue Service, for the collection of Title 38 benefit overpayments, overdue indebtedness, and/or costs of services provided to an individual not entitled to such services, by the withholding of all or a portion of the person's Federal income tax refund. The purpose of this disclosure is to collect a debt owed the VA by an individual by offset of his or her Federal income tax refund.

19. Treasury, to Report Waived Debt as Income

VA may disclose an individual's name, address, social security number, and the amount (excluding interest) of any indebtedness which is waived under 38 U.S.C. 3102, compromised under 4 CFR part 103, otherwise forgiven, or for which the applicable statute of limitations for enforcing collection has expired, to the Department of the Treasury, Internal Revenue Service, as a report of income under 26 U.S.C. 61(a)(12).

20. Guardians Ad Litem, for Representation

VA may disclose information to a fiduciary or guardian ad litem in relation to his or her representation of a claimant in any legal proceeding, but only to the extent necessary to fulfill the duties of the fiduciary or guardian ad litem.

This disclosure permits VA to provide individual information to an appointed VA Federal fiduciary or to the individual's guardian ad litem that is needed to fulfill appointed duties.

21. Guardians, for Incompetent Veterans

VA may disclose relevant information from this system of records in the course of presenting evidence to a court, magistrate, or administrative tribunal; in matters of guardianship, inquests, and commitments; to private attorneys representing veterans rated incompetent in conjunction with issuance of Certificates of Incompetency; and to probation and parole officers in connection with court-required duties.

22. Claims Representatives

VA may disclose information from this system of records relevant to a claim of a veteran or beneficiary, such as the name, address, the basis and nature of a claim, amount of benefit payment information, medical information, and military service and active duty separation information, at the request of the claimant to accredited service organizations, VA-approved claim agents, and attorneys acting under a declaration of representation, so that these individuals can aid claimants in the preparation, presentation, and prosecution of claims under the laws administered by VA. The name and address of a claimant will not, however, be disclosed to these individuals under this routine use if the claimant has not requested the assistance of an accredited service organization, claims agent or an attorney.

VA must be able to disclose this information to accredited service organizations, VA-approved claim agents, and attorneys representing veterans so they can assist veterans by preparing, presenting, and prosecuting claims under the laws administered by VA.

23. Third Parties

A. Any information in this system, including available identifying information regarding a person, such as the person's name, address, Social Security number, VA insurance number, VA claim number, VA loan number, date of birth, employment information or identification number assigned by any Government component, may be disclosed, except to consumer reporting agencies, to a third party in order to obtain current name, address and credit report in connection with any proceeding for the collection of an amount owed the United States. Such disclosure may be made in the course of computer matching having the purpose of obtaining the information indicated above. Third parties may include other Federal agencies or State probate courts.

B. Any information concerning a person's indebtedness to the United States, including personal information obtained from other Federal agencies through computer matching programs, may be disclosed to any third party, except consumer reporting agencies, in connection with any proceeding for the collection of any amount owed to the United States. Purposes of these disclosures include, but are not limited to (a) assisting the Government in collection of debts resulting from participation in Government programs of all categories and pay administration, and (b) initiating legal actions for prosecuting individuals who willfully or fraudulently obtain Government benefits, pay or allowances without entitlement. Third parties may include, but are not limited to, persons, organizations or other entities with contracts for collection services with the Government.

C. The name and address of a debtor, other information as is reasonably necessary to identify such person, including personal information obtained from other Federal, state or local agencies as well as private sources through computer matching, and other information concerning the person's indebtedness to the United States, may be disclosed to third parties, including Federal, State and local government agencies to determine the debtor's employer. Such information may be used to initiate garnishment of disposable pay in accordance with the provisions of 31 U.S.C. 3720D.

D. The name and address of a debtor, and such other information as may be necessary for identification of that debtor, may be disclosed to a debtor's employer for purposes of initiating garnishment of the disposable pay of that debtor under the provisions of 31 U.S.C. 3720D.

E. The names and addresses of delinquent debtors, along with the amounts of their debts, may be published or otherwise publicly disseminated subject to the provisions of 31 U.S.C 3720E.

F. Any information in this system may be disclosed to a third-party purchaser of debt more than 90 days delinquent and for which the sale of such debt was conducted pursuant to the provisions of 31 U.S.C. 3711(i).

POLICIES AND PRACTICES FOR STORAGE OF RECORDS:

Storage for CARS/CAROLS is located on disk packs for the mainframe part (CARS) and network storage for the CAROLS portion. All storage is housed within the Austin Information Technology Center. Records are maintained on magnetic tape and disk, microfilm, microfiche, optical disk and paper documents. DMC does not routinely maintain paper records of individual debtors in file folders with the exception of correspondence, and replies thereto, from Congress, the White House, members of the Cabinet and other similar sources. Paper records related to accounts receivable may be maintained in individual file folders located at VA regional offices, health care facilities, HAC and other agencies referring debts to VA in its capacity as a Government-wide cross-servicing debt collection center. Generally, and with the exception of claims against third-party insurers and certain first-party medical debts, such papers maintained outside of DMC are not used directly in the debt collection process unless they are first forwarded to DMC. Records of debts referred to VA in its capacity as a Government-wide cross servicing debt collection center will be accessible only to employees of DMC. Information stored on magnetic media and related to the All-Volunteer Force Educational Assistance, education loan, miscellaneous home loan or HAC debt collection programs may be accessed through personal computers. Records provided to the Department of Housing and Urban Development for inclusion in the Credit Alert Verification System (CAIVRS) are maintained on magnetic media at the HUD Data Processing Center in Lanham, Maryland. Records provided to the Department of the Treasury for administrative offset or referral to a designated debt collection center, private collection agency or the Department of Justice are maintained on magnetic media at the Financial Management Service Debt Collection Operations System in Hyattsville, Maryland. For VA benefit debts other than miscellaneous home loan, first-party medical and CHAMPVA, identifying information, the amount of the debt and benefit source of the debt may be stored on magnetic media in records that serve as the database for the VA Benefits Delivery Network (BDN) and Veterans Service Network (VETSNET). BDN and VETSNET are operated for the adjudication of VA claims and the entry of certain fiscal transactions. The identifying information, the amount of the debt and benefit source of the debt is transmitted to the Centralized Accounts Receivable System (CARS) or a personal computer local area network system before collection activity commences. When a debtor is awarded gratuitous benefits under VA programs, the BDN and VETSNET may operate to offset all or part of retroactive funds awarded, if any, to reduce the balance of the indebtedness. The Veterans Health Information Systems and Technology Architecture (VISTA), through its various modules, are used to create and store first-party medical charges and debts associated with the provision of health care benefits. The identifying information about the person, the amount of the debt and program source of the debt may be transmitted to CARS as part of the collection process. When a person receives care under the auspices of VA, a VA medical facility may collect all or part of a charge or debt.

POLICIES AND PRACTICES FOR RETRIEVAL OF RECORDS:

Paper documents, microfilm and microfiche related to VA claims and debts are indexed by VA file number or Social Security Number or date of receipt. Automated records of VA claims and debts are indexed by VA claim number, Social Security account number, name and loan account number in appropriate circumstances. Paper documents, microfilm, microfiche and automated records of pay administration debts and debts referred to VA for cross servicing are indexed by Social Security account number or Taxpayer Identification Number. Records in CAIVRS may only be retrieved by Social Security number.

POLICIES AND PRACTICES FOR RETENTION AND DISPOSAL OF RECORDS:

Microfilm and microfiche are retained in metal cabinets in DMC for 25 years. CARS records are retained until termination of debt collection (payment in full, write off, compromise or waiver). All other automated storage media are retained and disposed of in accordance with disposition authorization approved by the Archivist of the United States. DMC generally forwards all substantive paper documents to VA regional offices, health care facilities and CHAMPVA Center for storage in claims files, patient treatment files, imaging systems or loan files. Those documents are retained and disposed of in accordance with the appropriate system of records. Information provided to HUD for CAIVRS is stored on magnetic tape. The tapes are returned to VA for updating each month. HUD does not keep separate copies of the tapes. Information provided to the Department of the Treasury for the Treasury Offset Program is transferred electronically and stored by Treasury on magnetic media. In the case of CARS/CAROLS there are no physical items, only electronic. The electronic records being keep on CARS/CAROLS change daily and exist until the debt is otherwise settled. There is no history currently being kept by this system and no archiving.

ADMINISTRATIVE, TECHNICAL, AND PHYSICAL SAFEGUARDS:

1. Physical Security:

(a) Access to working spaces and document storage areas in DMC is restricted by cipher locks and to VA employees on a need-to-know basis. Generally, document storage areas in VA offices other than DMC are restricted to VA employees on a need-to-know basis. VA offices are generally protected from outside access by the Federal Protective Service or other security personnel. Strict control measures are enforced to ensure that access to and disclosure from documents, microfilm and microfiche are limited to a need-to-know basis.

(b) Access to CAROLS data telecommunications terminals is by authorization controlled by the site security officer. The security officer is assigned responsibility for privacy-security measures, especially for review of violation logs, information logs and control of password distribution.

(c) Access to data processing centers is generally restricted to center employees, custodial personnel, Federal Protective Service and other security personnel. Access to computer rooms is restricted to authorized operational personnel through electronic locking devices. All other personnel gaining access to computer rooms are escorted.

2. CAROLS and Personal Computer Local Area Network (LAN) Security:

(a) Usage of CAROLS and LAN terminal equipment is protected by password access. Electronic keyboard locks are activated on security errors.

(b) At the data processing centers, identification of magnetic media containing data is rigidly enforced using labeling techniques. Automated storage media which are not in use are stored in tape libraries which are secured in locked rooms. Access to programs is controlled at three levels: Programming, auditing and operations. Access to CARS is maintained and control via the CUPS application which allows management at DMC to request specific staff to have specific levels of access within the system. Access to CAROLS is maintained by the St. Paul VBA RO National Support Center staff. DMC makes requests for access for specific staff and the St. Paul RO NSC staff updates the system accordingly.

3. CAIVRS Security: Access to the HUD data processing center from which CAIVRS is operated is generally restricted to center employees and authorized contact employees. Access to computer rooms is restricted to authorized operational personnel through locking devices. All other persons gaining access to computer rooms are escorted. Records in CAIVRS use Social Security numbers as identifiers. Access to information files is restricted to authorized employees of participating agencies and authorized employees of lenders who participate in the agencies' programs. Access is controlled by agency distribution of passwords. Information in the system may be accessed by use of a touch-tone telephone by authorized agency and lender employees on a need-to-know basis.

4. Department of the Treasury Security: Access to the system is on a need-to-know basis, only, as authorized by the system manager. Procedural and physical safeguards are utilized to include accountability, receipt records and specialized communications security. The data system has an internal mechanism to restrict access to authorized officials. The building is patrolled by uniformed security guards.

RECORD ACCESS PROCEDURES:

Individuals seeking information regarding access to and contesting of records maintained by VA may write, call or visit the nearest VA regional office. Address locations are listed in VA Appendix 1 of 58VA21/22/28.

CONTESTING RECORD PROCEDURES:

See record access procedures above.

NOTIFICATION PROCEDURES:

An individual, who wishes to determine whether a record is being maintained in this system under his or her name or other personal identifier, or wants to determine the contents of such record, should submit a written request or apply in person to the nearest VA regional office or center. Address locations are listed in VA Appendix 1 of 58VA21/22/28. VA employees wishing to inquire whether the system of records contains employee productivity information about themselves should contact their supervisor at the regional office or center of employment.

EXEMPTIONS PROMULGATED FOR THE SYSTEM:

None.

HISTORY:

88VA244 “Accounts Receivable Records—VA” published at 63 FR 16864 on 4/6/1998.

[FR Doc. 2018-17228 Filed 8-10-18; 8:45 am]

BILLING CODE 8320-01-P